DEPARTMENT OF ENERGY

Federal Energy Regulatory Commission

[Docket No. IC24-21-000]

Commission Information Collection Activities (FERC-588); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-588, Emergency Natural Gas Transportation, Sale, and Exchange Transactions (OMB Control Number 1902-0144).

DATES: Comments on the collections of information are due September 16, 2024.

ADDRESSES: You may submit copies of your comments (identified by Docket No. IC24-21-000 and the specific FERC collection number (FERC-588)) by one of the following methods: Electronic filing through http://www.ferc.gov, is preferred.

• Electronic Filing: Documents must be filed in acceptable native applications and print-to-PDF, but not in scanned or picture format.

• For those unable to file electronically, comments may be filed by USPS mail or by other delivery services:

○ Mail via U.S. Postal Service Only: Federal Energy Regulatory Commission, Secretary of the Commission, 888 First Street NE, Washington, DC 20426.

○ All other delivery services: Federal Energy Regulatory Commission, Secretary of the Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov, telephone at (202) 502-6362.

SUPPLEMENTARY INFORMATION:

Title: FERC-588 (Emergency Natural Gas Transportation, Sale, and Exchange Transactions).

OMB Control No.: 1902-0144.

Type of Request: Three-year extension of the FERC-588 information collection requirements with no changes to the current reporting and recordkeeping requirements.

Abstract: FERC-588 is an existing information collection consisting of filing requirements and notice procedures applicable to responses to natural gas emergency circumstances. Two sets of information collection activities pertain to such responses. One set applies to responses by a jurisdictional “natural-gas company,” i.e., a person engaged in the transportation of natural gas in interstate commerce, or the sale in interstate commerce of such gas for resale.¹ Section 7(c)(1)(A) of the Natural Gas Act ² requires any natural-gas company to obtain a certificate of public convenience and necessity issued by the Commission before engaging in the transportation or sale of natural gas in interstate commerce, or undertaking the construction or extension of any facilities for the transportation or sale of natural gas in interstate commerce. Under 18 CFR 157.17, a jurisdictional natural-gas company may file an application for a temporary certificate authorizing the construction and operation of extensions of existing facilities, interconnections of pipeline systems, or sales of natural gas that may be required to assure maintenance of adequate service, or to service particular customers.

¹ The definition of “natural-gas company” is at 15 U.S.C. 717a(6).

² 15 U.S.C. 717f(c)(1)(A).

The other set of responses to a natural gas emergency, at 18 CFR part 284 subpart I, exempts a person who engages in an emergency natural gas transaction in interstate commerce from the certificate requirements of section 7 of the Natural Gas Act.³ The term “emergency natural gas transaction” is defined at 18 CFR 284.262 as the sale, transportation, or exchange of natural gas (including the construction and operation of necessary facilities) conducted pursuant to this subpart, that is:

³ 18 CFR 284.261.

(1) Necessary to alleviate an emergency; and

(2) Not anticipated to extend for more than 60 days in duration.

A non-jurisdictional company that engages in an emergency natural gas transactions must file information with the Commission under 18 CFR 284.270, so that the Commission may ensure compliance with relevant legal requirements.

Types of Respondent: Providers and recipients of assistance in natural gas emergency circumstances.

Estimate of Annual Burden: ⁴ The Commission estimates the total annual burden and cost ⁵ for this information collection in the following table:

⁴ “Burden” is the total time, effort, or financial resources expended by persons to generate, maintain, retain, or disclose or provide information to or for a Federal agency. For further explanation of what is included in the information collection burden, refer to 5 CFR 1320.3.

⁵ The Commission staff believes that industry is similarly situated to the Commission in terms of cost for wages and benefits. Based on FERC's current annual average cost of $207,786 (for salary plus benefits) for a full-time equivalent, the average hourly cost is $100/hour. Therefore, the hourly cost used in the burden calculation is $100.

Number of respondents | Annual number of responses per respondent | Total number of responses (Col. A × Col. B) | Average hr. burden and cost per response | Total annual hr. burden and cost (Col. C × Col. D)
A. | B. | C. | D. | E.
10 | 3 | 30 | 10 hrs; $1,000. | 300 hrs.; $30,000.

Comments: Comments are invited on: (1) whether the collections of information is necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: July 12, 2024.
Debbie-Anne A. Reese,
Acting Secretary.

[FR Doc. 2024-15851 Filed 7-17-24; 8:45 am]

BILLING CODE 6717-01-P